DEPARTMENT OF THE INTERIOR

Bureau of Land Management

[BLM_WY_FRN_MO4500169330]

Notice of Availability of the Draft Resource Management Plan Amendment and Supplemental Environmental Impact Statement for the 2015 Buffalo Field Office Approved Resource Management Plan, Wyoming

AGENCY: Bureau of Land Management, Interior.

ACTION: Notice of availability.

SUMMARY: In compliance with the National Environmental Policy Act of 1969, as amended (NEPA), and the Federal Land Policy and Management Act of 1976, as amended (FLPMA), the Bureau of Land Management (BLM) has prepared a Draft Resource Management Plan (RMP) Amendment and Draft Supplemental Environmental Impact Statement (EIS) for the 2015 Buffalo Field Office Approved RMP and by this notice is providing information announcing the opening of the comment period on the Draft RMP Amendment/Supplemental EIS.

DATES: This notice announces the opening of a 90-day comment period for the Draft RMP Amendment/Supplemental EIS beginning with the date following the Environmental Protection Agency's (EPA) publication of its Notice of Availability (NOA) in the Federal Register. The EPA usually publishes its NOAs on Fridays.

To afford the BLM the opportunity to consider comments in the Proposed RMP Amendment/Final EIS, please ensure your comments are received prior to the close of the 90-day comment period or 15 days after the last public meeting, whichever is later.

The BLM will hold one in-person public meeting on May 31, 2023, from 5 to 7 p.m. MT in Gillette, Wyoming, at the George Amos Building, 412 South Gillette Avenue, Gillette, Wyoming 82716. The BLM will also host one online public meeting on June 5, 2023, from 5 to 7 p.m. MT.

ADDRESSES: The Draft RMP Amendment/Supplemental EIS is available for review on the BLM ePlanning project website at https://eplanning.blm.gov/eplanning-ui/project/2021239/510.

Written comments related to the Draft RMP Amendment/Supplemental EIS may be submitted by any of the following methods:

• Website: https://eplanning.blm.gov/eplanning-ui/project/2021239/510.

• Email: BLM_WY_Buffalo_WYMail@blm.gov.

• Mail: Buffalo RMP Amendment SEIS, Attn: Thomas Bills, Project Manager, BLM Buffalo Field Office, 1425 Fort Street, Buffalo, WY 82834.

Documents pertinent to this proposal may be examined online at https://eplanning.blm.gov/eplanning-ui/project/2021239/510 and at the Buffalo Field Office.

FOR FURTHER INFORMATION CONTACT: Thomas Bills, Project Manager, telephone 307-684-1131; address BLM Buffalo Field Office, 1425 Fort Street, Buffalo, WY 82834; email tbills@blm.gov. Individuals in the United States who are deaf, deaf-blind, hard of hearing, or have a speech disability may dial 711 (TTY, TDD, or TeleBraille) to access telecommunications relay services for contacting Mr. Bills. Individuals outside the United States should use the relay services offered within their country to make international calls to the point-of-contact in the United States.

SUPPLEMENTARY INFORMATION: This document provides notice that the BLM Wyoming State Director has prepared a Draft RMP Amendment/Supplemental EIS and provides information announcing the opening of the comment period on the Draft RMP Amendment/Supplemental EIS. The RMP amendment provides additional analysis for land use planning in accordance with the Montana District Court's order and would change the existing 2015 Buffalo Field Office Approved RMP and 2019 Buffalo Field Office Approved RMP Amendment.

The Buffalo planning area is located in Campbell, Johnson, and Sheridan Counties, Wyoming. The Coal Development Potential Area is located within Campbell County, Wyoming, and encompasses approximately 48 billion short tons of recoverable BLM-administered Federal coal.

Purpose and Need

The purpose of this Draft RMP Amendment/Supplemental EIS is to address a United States District Court of Montana order (Western Organization of Resource Councils, et al. v. BLM; CV 00076-GF-BMM; 8/3/2022). In relation to land use planning, the BLM must prepare a Draft RMP Amendment/Supplemental EIS to address the following direction in the court order:

(1) complete new coal screening and NEPA analysis that considers no-leasing and limited coal leasing alternatives, and

(2) disclose the public health impacts, both climate and non-climate, of burning fossil fuels (coal and oil and gas) from the planning areas.

Alternatives Including the Preferred Alternatives

The BLM has analyzed three alternatives in detail, including the no action alternative, varying the amount of BLM-administered Federal coal authorized to be available for leasing. The alternatives are: (1) approximately 48.0 billion short tons of recoverable BLM-administered coal within the Coal Development Potential Area established in the 2019 RMP amendment/Final Supplemental EIS would be suitable for further consideration of leasing (No Action); (2) the Coal Development Potential Area would be unavailable for leasing (no leasing alternative); and (3) a reduced level of coal (1.24 billion short tons of recoverable BLM-administered coal) would be available for leasing within the Coal Development Potential Area.

The BLM considered three additional alternatives but dismissed these alternatives from detailed analysis as explained in the Draft RMP Amendment/Supplemental EIS.

Identifying a preferred alternative(s) does not indicate any final decision commitments from the BLM. In developing the Final SEIS and Potential RMPA, which is the next phase of the planning process, the decision maker may select various components from each of the alternatives analyzed in the Draft SEIS. The Final SEIS and Potential RMPA may also reflect changes and adjustments based on comments received on the Draft SEIS, new information, or changes in BLM policies or priorities.

The BLM used the impact analysis, along with recommendations from cooperating agencies; consideration of planning criteria; and anticipated resolution of resource conflicts to identify Alternatives A (no leasing) and C (limited leasing) as co-preferred alternatives from the suite of alternatives analyzed. Specifically, the identification of the co-preferred alternatives was based on the following.

• Two different alternatives have been identified has co-preferred alternatives for the purpose of public comment and review;

• Satisfaction of statutory requirements and the court order; and

• Provision of an acceptable approach to addressing key planning issues.

Schedule for the Decision-Making Process

The BLM will provide additional opportunities for public participation consistent with the NEPA and land use planning processes, including a 30-day public protest period and a 60-day Governor's consistency review on the Proposed RMP Amendment. The Proposed RMP Amendment/Final Supplemental EIS is anticipated to be available for public protest in September 2023 with an Approved RMP and Record of Decision in December 2023.

The BLM will hold one in-person public meeting on May 31, 2023, from 5 to 7 p.m. MT in Gillette, Wyoming, at the George Amos Building, 412 S Gillette Ave., Gillette, WY 82716. The BLM will also host one online public meeting on June 5 from 5 to 7 p.m. MT. The date(s) and location(s) of any additional meetings will be announced at least 15 days in advance through local media, newspapers, ePlanning project page (see ADDRESSES), and BLM website (see ADDRESSES).

The BLM will continue to consult with Indian Tribal Nations on a government-to-government basis in accordance with Executive Order 13175, BLM MS 1780, and other Departmental policies. Tribal concerns, including impacts on Indian trust assets and potential impacts to cultural resources, will be given due consideration.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10, 43 CFR 1610.2.)

Andrew S. Archuleta,
Wyoming State Director.

[FR Doc. 2023-09735 Filed 5-5-23; 8:45 am]

BILLING CODE 4331-26-P